DEPARTMENT OF STATE

[Public Notice No. 3493]

Shipping Coordinating Committee; Renewal of the Shipping Coordinating Committee

The Department of State is renewing the Shipping Coordinating Committee to solicit the view of interested members of the public and government agencies on maritime policy issues, for the guidance of U.S. delegations to international meetings on these matters. The Under Secretary for Management has determined that the committee is necessary and in the public interest.

Membership includes representatives from the maritime industry, labor unions, environmental groups and government bureaus and agencies. The Committee will follow the procedures prescribed by the Federal Advisory Committee Act (FACA). Meetings will be open to the public unless a determination is made in accordance with the FACA Section 10(d), 5 U.S.C.

Any questions concerning this committee should be referred to the Executive Secretary, Stephen M. Miller at (202) 647-6961.

Dated: December 6, 2000.
Mira Piplani,
International Transportation and Commercial Officer.

[FR Doc. 00-31583 Filed 12-7-00; 2:26 pm]

BILLING CODE 4710-07-P